FEDERAL TRADE COMMISSION

Granting of Request for Early Termination of the Waiting Period Under the Premerger Notification Rules

Section 7A of the Clayton Act, 15 U.S.C 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring person | Acquired person | Acquried entities
Transactions Granted Early Termination—12/27/2001
20020202 | General Electric Company | CMS Energy Corporation | Michigan Electric Transmission Company LLC
20020204 | AT&T Wireless Services, Inc. | Gerald T. Vento | THC of Houston, Inc.
|  |  | THC of Melbourne, Inc. THC of Orlando, Inc. THC of San Diego, Inc. THC of Tampa, Inc.
20020216 | Furniture Brands International, Inc. | Furnishings International Inc. | Drexel Heritage Furnishings, Inc.
|  |  | Furnishings International Inc. Henredon Furniture Industries, Inc. Maitland-Smith Pacific, LTD Maitland-Smith, Inc.
20020242 | Perot Systems Corporation | Dianne H. Patterson | Claim Services Resources Group, Inc.
20020252 | Omnicare, Inc. | Mariner Post-Acute Network, Inc. | American Medical Insurance Billing Services, Inc. American Pharmaceutical Serivces, Inc. APS Pharmacy Management, Inc.
|  |  | Compass Pharmacy Services of Maryland, Inc.
|  |  | Compass Pharmacy Services of Maryland, Inc. Ocean Pharmacy, Inc. Pinnacle Pharmaceutical Services, Inc.
Transactions Granted Early Termination—12/28/2001
20020225 | Nestle S.A. | Bristol-Myers Squibb Company | Bristol-Myers Squibb Company
20020226 | L. Bettencourt | Bistol-Myers Squibb Company | Bistol-Myers Squibb Company
Transactions Granted Early Termination—01/01/2002
20020267 | American Institute of Certified Public Accountants | Rivio, Inc. | Rivio, Inc.
20020278 | Cable and Wireless Inc. | Exodus Communications, Inc. | Exodus Communications, Inc.
Transactiosn Granted Early Termination—01/03/2002
20020275 | AOL Time Warner Inc. | Oxygen Media Corporation | Oxygen Media Corporation
20020276 | Paul G. Allen | Oxygen Media Corporation | Oxygen Media Corporation
20020282 | Berkshire Hathaway Inc. | Craig A. Ponzio | Albecca Inc.

For Further Information Contact: Sandra M. Peay or Chandra L. Kennedy, Contact Representatives, Federal Trade Commission, Premerger Notification Office, Bureau of Competition, Room 303, Washington, DC 20580, (202) 326-3100.

By Direction of the Commission.
Donald S. Clark,
Secretary.

[FR Doc. 02-1478 Filed 1-18-02; 8:45 am]

BILLING CODE 6750-01-M